DEPARTMENT OF ENERGY

Federal Energy Regulatory Commission

[Docket No. RP15-259-000]

Pivotal LNG, Inc.; Notice of Petition for Declaratory Order

Take notice that on December 10, 2014, pursuant to section 207(a)(2) of the Federal Energy Regulatory Commission's (Commission) Rules of Practice and Procedure, 18 CFR 385.207(a)(2) (2014), Pivotal LNG, Inc. submitted a petition for declaratory order seeking a ruling that certain existing liquefied natural gas (LNG) production facilities, not otherwise subject to the Commission's jurisdiction under section 3 of the Natural Gas Act (NGA), 15 U.S.C. 717b (2012), would not be deemed “LNG terminal[s],” as that term is defined in section 2(11) of the NGA, id. 717a(11), by virtue of the production or sale of LNG that is subsequently exported, or re-sold for ultimate export, by a third party, all as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on December 31, 2014.

Dated: December 16, 2014.
Kimberly D. Bose,
Secretary.

[FR Doc. 2014-29953 Filed 12-22-14; 8:45 am]

BILLING CODE 6717-01-P